DEPARTMENT OF AGRICULTURE

Forest Service

California Coast Provincial Advisory Committee (PAC)

AGENCY: Forest Service, USDA.

ACTION: Notice of meeting.

SUMMARY: The California Coast Provincial Advisory Committee (PAC) will meet on March 28 and 29, 2001, at the US Fish and Wildlife Service Second Floor Conference Room in Arcata, California. The meeting will be held from 1 p.m. until 5 p.m. on Wednesday, March 28, and from 8 a.m. to 4 p.m. on Thursday, March 29. The USFWS office is located at 1655 Heindon Road in Arcata. Agenda items to be covered include: (1) Update on the National Fire Plan; (2) discussion on the issue of anadromous fish populations and their habitat on federal lands in the Province; (3) report on watershed planning activities; (4) Regional Ecosystem Office (REO) update; (5) presentations on fire ecology history in the Province and hazardous fuels treatment opportunities; (6) update on legislation concerning federal Payments to Counties; (7) presentations on Mendocino and Six Rivers Forest fire management plans; (8) action plan for the Province comprehensive road work/fisheries and watershed restoration plan; (9) discussion of issue concerning a Provincial integrated fire strategy; (10) Mendocino NF Strategic Agenda; and (11) open public comment. All California Coast Provincial Advisory Committee meetings are open to the public. Interested citizens are encouraged to attend.

FOR FURTHER INFORMATION CONTACT: Direct questions regarding this meeting to James Fenwood, Forest Supervisor, or Phebe Brown, Province Coordinator, USDA, Mendocino National Forest, 825 N. Humboldt Avenue, Willows, CA 95988, (530) 934-3316.

Dated: March 7, 2001.
James D. Fenwood,
Forest Supervisor.

[FR Doc. 01-6770 Filed 3-19-01; 8:45 am]

BILLING CODE 3410-11-M